NUCLEAR REGULATORY COMMISSION

10 CFR Part 72

[NRC-2024-0096]

RIN 3150-AL17

List of Approved Spent Fuel Storage Casks: Holtec International HI-STORM FW System Certificate of Compliance No. 1032, Amendment No. 7

AGENCY: Nuclear Regulatory Commission.

ACTION: Direct final rule; confirmation of effective date.

SUMMARY: The U.S. Nuclear Regulatory Commission (NRC) is confirming the effective date of September 25, 2024, for the direct final rule that was published in the Federal Register on July 12, 2024. The direct final rule amended the Holtec International HI-STORM Flood/Wind Multi-purpose Canister Storage System listing within the “List of approved spent fuel storage casks” to include Amendment No. 7 to Certificate of Compliance No. 1032.

DATES: Effective date: The U.S. Nuclear Regulatory Commission (NRC) is confirming the effective date of September 25, 2024, for the direct final rule that was published in the Federal Register on July 12, 2024.

ADDRESSES: Please refer to Docket ID NRC-2024-0096 when contacting the NRC about the availability of information for this action. You may obtain publicly available information related to this action by any of the following methods:

• Federal Rulemaking Website: Go to https://www.regulations.gov and search for Docket ID NRC-2024-0096. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Amendment No. 7 of Certificate of Compliance No. 1032 and associated changes to the technical specifications, and safety evaluation report can also be viewed in ADAMS under Package Accession No. ML24199A236.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Caylee Kenny, Office of Nuclear Material Safety and Safeguards, telephone: 301-415-7150, email: Caylee.Kenny@nrc.gov; and Yen-Ju Chen, Office of Nuclear Material Safety and Safeguards, telephone: 301-415-1018, email: Yen-Ju.Chen@nrc.gov. Both are staff of the U.S. Nuclear Regulatory Commission, Washington, DC 20555-0001.

SUPPLEMENTARY INFORMATION: On July 12, 2024 (89 FR 57064), the NRC published a direct final rule amending its regulations in part 72 of title 10 of the Code of Federal Regulations to revise the Holtec International HI-STORM Flood/Wind Multi-purpose Canister Storage System (HI-STORM FW System) listing in the “List of approved spent fuel storage casks” to include Amendment No. 7 to Certificate of Compliance No. 1032. In the direct final rule, the NRC stated that if no significant adverse comments were received, the direct final rule would become effective on September 25, 2024. The NRC did not receive any comments on the direct final rule. Therefore, this direct final rule will become effective as scheduled.

Dated: August 16, 2024.
For the Nuclear Regulatory Commission.
Helen Chang,
Acting Chief, Regulatory Analysis and Rulemaking Support Branch, Division of Rulemaking, Environmental, and Financial Support Office of Nuclear Material Safety and Safeguards.

[FR Doc. 2024-18752 Filed 8-20-24; 8:45 am]

BILLING CODE 7590-01-P